DEPARTMENT OF VETERANS AFFAIRS

[OMB Control No. 2900-0353]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before May 26, 2006.

FOR FURTHER INFORMATION CONTACT: Denise McLamb, Records Management Service (005E3), Department of Veterans Affairs, 810 Vermont Avenue, NW., Washington, DC 20420, (202) 565-8374, FAX (202) 565-6950 or e-mail denise.mclamb@mail.va.gov. Please refer to “OMB Control No. 2900-0353.” Send comments and recommendations concerning any aspect of the information collection to VA's OMB Desk Officer, OMB Human Resources and Housing Branch, New Executive Office Building, Room 10235, Washington, DC 20503 (202) 395-7316. Please refer to “OMB Control No. 2900-0353” in any correspondence.

SUPPLEMENTARY INFORMATION: Title: Certification of Lessons Completed, (Under Chapters 30, 32, and 35, Title 38, U.S.C.; Chapter 31, 110, 1606 and 1607, Title 10, U.S.C., and Section 903, Pub. L. 96-342), VA Forms 22-6553b and 22-6553b-1.

OMB Control Number: 2900-0353.

Type of Review: Extension of a currently approved collection.

Abstract: Students enrolled in a correspondence school complete VA Forms 22-6553b and 22-6553b-1 to report the number of correspondence course lessons completed and forward the forms to the correspondence school for certification. School official certifies the number of lessons serviced and submits the forms to VA for processing. Benefits are payable based on the data provided on the form. Benefits are not payable when students interrupt, discontinue, or complete the training. VA uses the data collected to determine the amount of benefit is payable.

An agency may not conduct or sponsor, and a person is not required to respond to a collection of information unless it displays a currently valid OMB control number. The Federal Register Notice with a 60-day comment period soliciting comments on this collection of information was published on January 11, 2006 at pages 1792-1793.

Affected Public: Individuals or households, Business or other for-profit.

Estimated Annual Burden: 1,200 hours.

Estimated Average Burden Per Respondent: 10 minutes.

Frequency of Response: On occasion.

Estimated Number of Respondents: 2,400.

Number of Responses Annually: 7,200.

Dated: April 18, 2006.
By direction of the Secretary.
Denise McLamb,
Program Analyst, Records Management Service.

[FR Doc. E6-6251 Filed 4-25-06; 8:45 am]

BILLING CODE 8320-01-P